DEPARTMENT OF ENERGY

Federal Energy Regulatory Commission

[Project No. 6550-004]

Bidden Creek Bores Properties, LLC; JBS Rentals, LLC; Notice of Transfer of Exemption

1. By letter filed June 23, 2017, Stephen J. Bores informed the Commission that the exemption from licensing for the Biber-Spellenberg Hydro Project No. 6550, originally issued February 14, 1983 ¹ has been transferred to JBS Rentals, LLC. The project is located on Bidden Creek in Trinity County, California. The transfer of an exemption does not require Commission approval.

¹ Order Granting Exemption from Licensing of a Small Hydroelectric Project of 5 MW or Less. Frank M. Biber and Steven Spellenberg, 22 FERC ¶ 62,182 (1983).

2. JBS Rentals, LLC is now the exemptee of the Biber-Spellenberg Project No. 6550. All correspondence should be forwarded to: Mr. Jeremy Brown, Owner, P.O. Box 1233, Willow Creek, CA 95573, Phone 530-629-3100.

Dated: August 15, 2017.
Kimberly D. Bose,
Secretary.

[FR Doc. 2017-17557 Filed 8-18-17; 8:45 am]

BILLING CODE 6717-01-P